FEDERAL MARITIME COMMISSION

[Docket No. 99-15]

David P. Kelly and West Indies Shipping & Trading, Inc.—Possible Violations of the Shipping Act of 1984; Notice of Amendment to the Order of Investigation in Docket No. 99-15

This is to give notice that the Commission has amended its Order of Investigation in the above-captioned proceeding.

On August 13, 1999, the Federal Maritime Commission (“Commission”) issued an Order of Investigation and Hearing to determine whether West Indies Shipping and Trading, Inc. (“West Indies Shipping”), a non-vessel-operating common carrier (“NVOCC”), and its president and sole shareholder, David P. Kelly (“Kelley”), violated sections 8(a)(1), 10(a)(1), 19(a), 19(b)(1), and former section 23(a) (pre-OSRA) of the Shipping Act of the 1984 (“Act”), 46 U.S.C. app. §§§§ 1707(a)(1), 1709(a)1), 1718(a), and 1718(b)(1), and former §§ 1721(a). Notice of this Order was published in the Federal Register on August 18, 1999. 64 FR 44928.

The Commission has determined, in response to a motion filed by the Commission's Bureau of Enforcement, to amend the Order of Investigation and Hearing to encompass section 10(b)(1) of the Act, 46 U.S.C. app Sections 1709(b)(1). The full text of the original Order and the amendment, may be viewed on the Commission's home page at www.fmc.gov, or at the Office of the Secretary, Room 1046, 800 N. Capitol Street, NW., Washington, DC. Any person may file a petition for leave to intervene in accordance with 46 CFR 502.72.

Bryant L. VanBrakle,
Secretary.

[FR Doc. 00-17060 Filed 7-5-00; 8:45 am]

BILLING CODE 6730-01-P